SMALL BUSINESS ADMINISTRATION

[Declaration of Disaster #P014]

Commonwealth of Pennsylvania

As a result of the President's major disaster declaration for Public Assistance on August 23, 2003 the U.S. Small Business Administration is activating its disaster loan program only for private non-profit organizations that provide essential services of a governmental nature. I find that Crawford, Forest, Mercer, McKean, Venango and Warren Counties in the Commonwealth of Pennsylvania constitute a disaster area due to damages caused by severe storms, tornadoes, and flooding occurring on July 21, 2003 and continuing. Applications for loans for physical damage as a result of this disaster may be filed until the close of business on October 22, 2003 at the address listed below or other locally announced locations:

Small Business Administration, Disaster Area 1 Office, 360 Rainbow Blvd., South, 3rd Floor, Niagara Falls, NY 14303.

The interest rates are:

| Percent
For Physical Damage:
Non-profit organizations without credit available elsewhere | 2.953
Non-profit organizations with credit available elsewhere | 5.500

The number assigned to this disaster for physical damage is P01411.

(Catalog of Federal Domestic Assistance Program Nos. 59008)
Dated: August 27, 2003.
Herbert L. Mitchell,
Associate Administrator for Disaster Assistance.

[FR Doc. 03-22422 Filed 9-2-03; 8:45 am]

BILLING CODE 8025-01-P